DEPARTMENT OF TRANSPORTATION

Federal Aviation Administration

[Policy Statement No. ANM-03-112-16]

Interim Policy on Amendment 25-87 Requirements

AGENCY: Federal Aviation Administration (FAA), DOT.

ACTION: Notice of proposed policy; request for comments.

SUMMARY: The Federal Aviation Administration (FAA) announces the availability of proposed interim policy on Amendment 25-87 requirements.

DATES: Send your comments on or before June 30, 2003.

ADDRESSES: Address your comments to the individual identified under FOR FURTHER INFORMATION CONTACT.

FOR FURTHER INFORMATION CONTACT: Stephen Happenny, Propulsion and Mechanical Systems Branch, ANM-112, Federal Aviation Administration, Transport Airplane Directorate, Transport Standards Staff, 1601 Lind Avenue SW., Renton, WA 98055-4056; telephone (425) 227-2147; fax (425) 227-1320; e-mail: stephen.happenny@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. ANM-03-112-16.” Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The proposed interim policy memorandum provides Federal Aviation Administration (FAA) certification policy on the compliance issues associated with high altitude flight. This memo provides applicants with information on how the FAA will evaluate petitions for exemption from § 25.841(a), as amended by Amendment 25-87. For airplanes with wing-mounted engines, this regulation in effect limits the maximum operating altitude of airplanes approved to this standard to 40,000 feet. Several airframe manufacturers have asked the FAA to develop a new safety standard, which is being addressed in rulemaking activities. Those manufacturers have also asked for interim policy to provide relief because high altitude flight offers benefits to airplane performance in terms of reduced drag and lower fuel burn.

Issued in Renton, Washington, on May 15, 2003.
Ali Bahrami,
Acting Manager, Transport Airplane Directorate Aircraft Certification Service.

[FR Doc. 03-13541 Filed 5-29-03; 8:45 am]

BILLING CODE 4910-13-M